DEPARTMENT OF DEFENSE

Office of the Secretary

[Docket No. DOD-2007-OS-0038]

Proposed Collection; Comment Request

AGENCY: Defense Finance and Accounting Service, DoD.

ACTION: Notice.

SUMMARY: In compliance with the Section 3506(c)(A) of the Paperwork Reduction Act of 1995, the Defense Finance and Accounting Service announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility and clarity of the information to be collected; and (d) ways to minimize the burden of the information collection on respondents, including through the use of automated collection techniques or other forms of information technology.

DATES: Consideration will be given to all comments received by July 2, 2007.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Disbursing Management Policy Division, Defense Finance and Accounting Service Kansas City, DFAS-NPD/KC, ATTN: Mr. Clayton Stokely, 1500 E. 95th Street, Kansas City, MO 64197-0030, or call Mr. Clayton Stokely at (816) 926-3600.

Title, Associated Form, and OMB Number: Statement of Claimant Requesting Recertified Check; DD Form 2660; OMB Number 0730-002.

Needs and Uses: In accordance with TFM Volume 1, Part 4, Section 7060.20 and Department of Defense (DoD) Financial Management Regulation 7000.14-R, volume 5, there is a requirement that a payee identify himself/herself and certify as to what happened to the original check issued by the government (non-receipt, loss, destruction, theft, etc.). This collection will be used to identify rightful reissuance of government checks to individuals or businesses outside DoD.

Affected Public: Individuals or households; business or other For-Profit; not-for-profit institutions; State, Local or Tribal Government.

Annual Burden Hours: 3,958 hours.

Number of Respondents: 47,496.

Responses Per Respondent: 1.

Average Burden Per Response: 5 minutes.

Frequency: On occasion.

SUPPLEMENTARY INFORMATION:

Summary of Information Collection

The Statement of Claimant Requesting Recertified Check is used to ascertain pertinent information needed by DoD in order to reissue checks to payees, if the checks have not been negotiated to financial institutions within 1 year of the date of issuance, when an original check has been lost, not received, damaged, stolen, etc. The form will be completed by the payee who was issued the original check. The information provided on this form will be used in determining whether a check may be reissued to the named payee.

Dated: April 23, 2007.
Patricia L. Topping,
Alternate OSD Federal Register Liaison Officer, Department of Defense.

[FR Doc. 07-2166 Filed 5-2-07; 8:45am]

BILLING CODE 5001-06-M